DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

MRP8, A Member of the ABC Transporter Superfamily Highly Expressed in Breast Cancer, and Uses Thereof

Ira Pastan et al. (NCI)

DHHS Reference No. E-225-01/0 12 Jul 2001

Licensing Contact: Richard Rodriguez; 301/496-7056 ext. 287; e-mail: rodrigur@od.nih.gov

MRP8 encodes an ATP-binding cassette transporter protein. Current data shows that it is expressed in a restrictive manner, and that it is highly expressed in breast cancer cells. This expression pattern makes it suitable as a molecular target, and MRP8-specific antibodies could be used to target MRP8-expressing cancer cells. Additionally, the MRP8-protein, immunogenic portions of said protein or nucleic acids encoding the protein, or immunogenic portions of said protein, could be used as immunogens to stimulate or to augment immune responses to MRP8-expressing cancer cells.

The Ovachip: A Clinically Useful cDNA Array for Differential Diagnosis of Ovarian Cancer

Morin et al. (NIA)

DHHS Reference No. E-344-01/0 filed 06 Mar 2002

Licensing Contact: Matthew Kiser; 301/496-7056 ext. 224; kiserm@od.nih.gov

The present invention describes a specialized microarray that exclusively contains genes that are differentially expressed in ovarian cancer. The invention also provides for methods of generating an expression profile of multiple genes that are differentially expressed in ovarian cancer, methods of determining treatment for an ovarian tumor, and methods of identifying clusters of coordinately regulated genes that are differentially expressed in ovarian cancer.

Benefits of this invention include methods of predicting the response of a mammal to an anti-ovarian cancer therapeutic regimen, methods of monitoring cancer progression, methods of determining the efficacy of anti-cancer drugs, and methods of screening candidate anti-ovarian drugs for efficacy. All these applications hinge on the use of these ovarian cancer gene microarrays in generating gene expression profiles under various conditions and comparing them to each other and to standards.

Method of Promoting Engraftment of a Donor Transplant in a Recipient Host

William J. Murphy et al. (NCI)

DHHS Reference No. E-151-01/0 filed 29 Jun 2001

Licensing Contact: Matthew Kiser; 301/496-7056 ext. 224; e-mail: kiserm@od.nih.gov

This invention pertains to a method of using donor natural killer (NK) cells to promote engraftment of a donor transplant in a recipient host, wherein the donor NK cells have been treated ex vivo, such as with an antibody (or antigenically reactive fragment thereof), a major histocompatibility molecule (MHC), a small molecule, a blocker of cell-signaling or an enzyme, such that the ability of the donor NK cells to interact with MHC molecules in the recipient host is compromised.

The method comprises adoptively transferring to the recipient host donor NK cells, which have been treated ex vivo to interfere with the ability of inhibitory receptors on the donor NK cells to interact with MHC molecules in the recipient host, simultaneously with, or sequentially to, in either order, the donor transplant, whereupon the engraftment of the donor transplant in the recipient host is promoted.

The present inventive method has applications in the context of the transplantation of a variety of tissues from the donor to the recipient host. In a preferred embodiment, the donor transplant is bone marrow. In an alternate embodiment, the donor transplant is an organ. Preferably, the donor or the recipient host is human.

DNA Encoding CAI Resistance Proteins and Uses Thereof

Elise Kohn et al. (NCI)

U.S. Patent 5,652,223 issued 29 Jul 1997; U.S. Patent 5,981,712 issued 09 Nov 1999; Serial No. 09/436,469 filed 08 Nov 1999

Licensing Contact: Jonathan Dixon; 301/496-7056 ext. 270; e-mail: dixonj@od.nih.gov

Novel targets for therapeutic intervention in cancer proliferation and invasion are needed. Calcium influx has been shown to be required for invasion. Carboxyamido-triazole (CAI), a synthetic blocker of calcium influx in nonexcitable cells, inhibits tumor and endothelial cell motility and decreases the expression of matrix metalloproteinases involved in invasion and angiogenesis. Thus, CAI plays a role in the inhibition of malignant proliferation, invasion, and metastasis of cancer cells. The effectiveness of CAI as a cancer therapeutic agent is currently being tested in clinical trials.

The technology which is available for licensing relates to the CAI resistance (CAIR-1) gene that encodes a protein identified in CAI conditioned cells. The CAIR-1 gene provides a potential source of information about the mechanism of drug conditioning and could also be useful as a marker for detecting the acquisition of a drug conditioned phenotype and/or as a target for intervention.

In addition, CAIR was also independently identified as BAG-3 and Bis. CAIR/BAG-3/Bis has been shown to play a role in protein folding inside the cell and to modulate programmed cell death (apoptosis). Thus, the CAIR/BAG-3/Bis protein serves as an important link between pathways regulating calcium influx, protein folding, and apoptosis and may be a valuable drug discovery target for therapeutic intervention in cancer proliferation and invasion.

Dated: May 20, 2002.
Jack Spiegel,
Director, Division of Technology Development and Transfer, Office of Technology Transfer, National Institutes of Health.

[FR Doc. 02-13279 Filed 5-24-02; 8:45 am]

BILLING CODE 4140-01-P